DEPARTMENT OF DEFENSE

Office of the Secretary

[Docket ID DOD-2008-OS-0158]

Privacy Act of 1974; System of Records

AGENCY: Defense Logistics Agency, DoD.

ACTION: Notice to amend a system of records.

SUMMARY: The Defense Logistics Agency is amending a system of records notice in its existing inventory of record systems subject to the Privacy Act of 1974, (5 U.S.C. 552a), as amended.

DATES: This proposed action will be effective without further notice on January 14, 2009 unless comments are received which result in a contrary determination.

ADDRESSES: Send comments to the Privacy Act Officer, Headquarters, Defense Logistics Agency, Attn: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: December 9, 2008.
Morgan E. Frazier,
Alternate OSD Federal Register Liaison Officer, Department of Defense.

S600.10 CAAE

System name:

Hazardous Materials Occupational Exposure History Files (September 21, 1999, 64 FR 51109).

Changes:

System identifier:

Delete “CAAE” from the entry.

* * * * *

System location:

Delete entry and replace with “Records are maintained at the Defense Supply Center Philadelphia (DSCP); the Defense Distribution Center (DDC) and [all] associated distribution depots; Defense Supply Center Richmond (DSCR); Defense Reutilization and Marketing Service (DRMS) and [all] associated Defense Reutilization and Marketing Office sites; Defense Energy Supply Center (DESC); United States Army Ionizing Radiation Dosimetry Center (AIRDC), and the Defense National Stockpile Center (DNSC) and [all] associated sites. Mailing addresses for these locations may be obtained from the System manager identified below.

In addition, records are maintained at the Defense Logistics Support Command, Headquarters, Defense Logistics Agency, 8725 John J. Kingman Road, Suite 2533, Fort Belvoir, VA 22060-6221.”

* * * * *

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(b)(3) as follows:

To the U. S. Public Health Service and or supporting medical facilities for the purpose of conducting medical examinations and evaluations of DLA employees.

To the regulatory agencies which regulate the management of hazardous materials and personnel exposure for reporting purposes.

To academic and medical institutions and non-government agencies for the purpose of monitoring/evaluating exposures to hazardous materials and occupational exposure to ionizing radiation.

The DoD “Blanket Routine Uses” apply to this system of records.”

* * * * *

Retrievability:

Delete entry and replace with “Retrieved alphabetically by individual's name, Social Security Number (SSN), or employee identification number.”

* * * * *

Notification procedure:

Delete entry and replace with “Individuals seeking to determine whether information about themselves is contained in this system of records should address all written inquiries to the Privacy Act Office, Headquarters, Defense Logistics Agency, Attn: DGA, 8725 John J. Kingman Road, Suite 1644, Fort Belvoir, VA 22060-6221.

Inquiries should contain the subject individual's full name, Social Security Number (SSN), or employee identification number.”

Record access procedures:

Delete entry and replace with “Individuals seeking access to information about them contained in this system of records should address all written inquiries to the Privacy Act Office, Headquarters, Defense Logistics Agency, Attn: DGA, 8725 John J. Kingman Road, Suite 1644, Fort Belvoir, VA 22060-6221.

Inquiries should contain the subject individual's full name, Social Security Number (SSN), or employee identification number.”

* * * * *

S600.10

System name:

Hazardous Materials Occupational Exposure History Files.

System location:

Records are maintained at the Defense Supply Center Philadelphia (DSCP); the Defense Distribution Center (DDC) and [all] associated distribution depots; Defense Supply Center Richmond (DSCR); Defense Reutilization and Marketing Service (DRMS) and [all] associated Defense Reutilization and Marketing Office sites; Defense Energy Supply Center (DESC); United States Army Ionizing Radiation Dosimetry Center (AIRDC), and the Defense National Stockpile Center (DNSC) and [all] associated sites. Mailing addresses for these locations may be obtained from the System manager identified below.

In addition, records are maintained at the Defense Logistics Support Command, Headquarters, Defense Logistics Agency, 8725 John J. Kingman Road, Suite 2533, Fort Belvoir, VA 22060-6221.

Categories of individuals covered by the system:

Individuals working in or visiting hazardous materials storage areas and individuals who have been occupationally exposed to ionizing radiation.

Categories of records in the system:

File contains name, Social Security Number, badge readings, individual or area exposure monitoring results and medical data.

Authority for maintenance of the system:

5 U.S.C. 7902, Safety Programs; 29 U.S.C. Chapter 15, Occupational Safety and Health; 42 U.S.C. 2201(o), Reports; and E.O. 9397 (SSN).

Purpose(s):

To record and maintain data on hazardous materials exposure levels and medical status following annual medical examinations and to comply with reporting requirements.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U. S. Public Health Service and or supporting medical facilities for the purpose of conducting medical examinations and evaluations of DLA employees.

To the regulatory agencies which regulate the management of hazardous materials and personnel exposure for reporting purposes.

To academic and medical institutions and non-government agencies for the purpose of monitoring/evaluating exposures to hazardous materials and occupational exposure to ionizing radiation.

The DoD “Blanket Routine Uses” apply to this system of records.

Policies and practices for storing, retrieving, accessing, retaining, and disposing of records:

Storage:

Records may be stored on paper and/or on electronic storage media.

Retrievability:

Retrieved alphabetically by individual's name, Social Security Number (SSN), or employee identification number.

Safeguards:

Records are secured in locked or guarded buildings, locked offices, or locked cabinets during non duty hours.

Retention and Disposal:

Records are destroyed 75 years after birth date of employee, 60 years after date of the earliest document in the file if the date of birth cannot be ascertained, or 30 years after latest separation, or maintained indefinitely as prescribed by law, whichever is later.

System manager(s) and address:

Staff Director, Environment, Safety and Occupational Health, Attn: DES-E, 8725 John J. Kingman Road, Suite 2639, Fort Belvoir, VA 22060-6221, and Heads of the Safety and Health Offices at the DLA Field Activities. Official mailing addresses are published as an appendix to DLA's compilation of systems of records notices.

Notification procedure:

Individuals seeking to determine whether information about themselves is contained in this system of records should address all written inquiries to the Privacy Act Office, Headquarters, Defense Logistics Agency, Attn: DGA, 8725 John J. Kingman Road, Suite 1644, Fort Belvoir, VA 22060-6221.

Inquiries should contain the subject individual's full name, Social Security Number, or employee identification number.

Record access procedures:

Individuals seeking access to information about them contained in this system of records should address all written inquiries to the Privacy Act Office, Headquarters, Defense Logistics Agency, Attn: DGA, 8725 John J. Kingman Road, Suite 1644, Fort Belvoir, VA 22060-6221.

Inquiries should contain the subject individual's full name, Social Security Number, or employee identification number.

Contesting record procedures:

The DLA procedures for accessing records, for contesting contents, and appealing initial agency determinations are contained in 32 CFR part 323, or may be obtained from the Privacy Act Office, Headquarters, Defense Logistics Agency, Attn: DGA, 8725 John J. Kingman Road, Suite 1644, Fort Belvoir, VA 22060-6221.

Record source categories:

Information in this system of records is obtained from dosimetric devices (area and personnel), other detection instrumentation, work logs, site records and assessments, and medical examinations and surveillance.

Exemptions claimed for the system:

None.

[FR Doc. E8-29521 Filed 12-12-08; 8:45 am]

BILLING CODE 5001-06-P